INTERNATIONAL TRADE COMMISSION

[Investigation No. 337-TA-1194]

Certain High-Density Fiber Optic Equipment and Components Thereof; Institution of Investigation

AGENCY: U.S. International Trade Commission.

ACTION: Notice.

SUMMARY: Notice is hereby given that a complaint was filed with the U.S. International Trade Commission on February 21, 2020, under section 337 of the Tariff Act of 1930, as amended, on behalf of Corning Optical Communications LLC of Charlotte, North Carolina. Supplements to the complaint were filed on March 2, 2020, March 11, 2020, and March 13, 2020. The complaint, as supplemented, alleges violations of section 337 based upon the importation into the United States, the sale for importation, and the sale within the United States after importation of certain high-density fiber optic equipment and components thereof by reason of infringement of certain claims of U.S. Patent No. 9,020,320 (“the '320 patent”); U.S. Patent No. 8,712,206 (“the '206 patent”); U.S. Patent No. 10,120,153 (“the '153 patent”); U.S. Patent No. 10,094,996 (“the '996 patent”); and U.S. Patent No. 10,444,456 (“the '456 patent”). The complaint further alleges that an industry in the United States exists as required by the applicable Federal Statute.

The complainant requests that the Commission institute an investigation and, after the investigation, issue a general exclusion order, or in the alternative a limited exclusion order, and cease and desist orders.

ADDRESSES: The complaint, except for any confidential information contained therein, is available for inspection during official business hours (8:45 a.m. to 5:15 p.m.) in the Office of the Secretary, U.S. International Trade Commission, 500 E Street SW, Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov. The public record for this investigation may be viewed on the Commission's electronic docket (EDIS) at https://edis.usitc.gov.

FOR FURTHER INFORMATION CONTACT: Pathenia M. Proctor, The Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2020).

Scope of Investigation: Having considered the complaint, the U.S. International Trade Commission, on March 18, 2020, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1-3 of the '320 patent; claims 1, 2, 10, 11, 14, 22, and 23 of the '206 patent; claims 1, 2, 5-16, 19, and 23-27 of the '153 patent; claims 22-29 of the '996 patent; and claims 11, 12, 14-21, and 27-30 of the '456 patent; and whether an industry in the United States exists as required by subsection (a)(2) of section 337;

(2) Pursuant to section 210.10(b)(1) of the Commission's Rules of Practice and Procedure, 19 CFR 210.10(b)(1), the plain language description of the accused products or category of accused products, which defines the scope of the investigation, is “high-density fiber optic equipment and components thereof, which consist of (1) a chassis with sliding trays that fits within the standardized racks used in data centers, and (2) removable modules that are inserted into the sliding trays of the chassis, wherein the chassis and modules are used to terminate large numbers of fiber-optic cables using standardized connectors (at least 98 connections per standard rack unit (or `U space'))”;

(3) For the purpose of the investigation so instituted, the following are hereby named as parties upon which this notice of investigation shall be served:

(a) The complainant is: Corning Optical Communications LLC, 4200 Corning Place, Charlotte, NC 28216.

(b) The respondents are the following entities alleged to be in violation of section 337, and is/are the parties upon which the complaint is to be served:

AFL Telecommunications Holdings LLC d/b/a AFL, 170 Ridgeview Center Drive, Duncan, SC 29334.

FS.com Inc., 380 Centerpoint Boulevard, New Castle, DE 19720.

Huber+Suhner AG, Degersheimerstrasse 14, 9100 Herisau, Switzerland.

Huber + Suhner, Inc., 8530 Steele Creek Place Drive, Suite H, Charlotte, NC 28273.

Legrand North America, LLC, 60 Woodlawn Street, West Hartford, CT 06110.

Leviton Manufacturing Co., Inc., 201 North Service Road, Melville, NY 11747.

Panduit Corporation, 18900 Panduit Drive, Tinley, IL 60487.

Shanghai TARLUZ Telecom Tech. Co., Ltd. d/b/a TARLUZ, 3F, Building 1, No. 2528 Zhennan Road, Putuo District, Shanghai, China 200331.

Shenzhen Anfkom Telecom Co., Ltd. d/b/a Anfkom Telecom, Block B, Hengbang Science Park, Loucun 1st Industrial Zone, Guangming New District, Shenzhen, China 518107.

The LAN Wirewerks Research, Laboratories Inc. d/b/a Wirewerks, 19144 Avenue Cruickshank, Baie-d'Urfé, Québec, H9X 3P1, Canada.

The Siemon Company, Siemon Business Park, 101 Siemon Company Drive, Watertown, CT 06795.

Total Cable Solutions, Inc., 475 Victory Drive, Springboro, OH 45066.

Wulei Technology Co., Ltd. d/b/a Bonelinks, A409 Tangxi Jinggongfang, Hongwan Commercial Center, Gushu, Xixiang, Baoan District, Shenzhen, China 518126.

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: March 19, 2020.
Lisa Barton,
Secretary to the Commission.

[FR Doc. 2020-06152 Filed 3-23-20; 8:45 am]

BILLING CODE 7020-02-P